DEPARTMENT OF TRANSPORTATION

Federal Aviation Administration

Agency Information Collection Activities: Requests for Comments; Clearance of Revised Approval of Information Collection Certification Procedures for Products and Parts

AGENCY: Federal Aviation Administration (FAA), DOT.

ACTION: Notice and request for comments.

SUMMARY: In accordance with the Paperwork Reduction Act of 1995, FAA invites public comments about our intention to request the Office of Management and Budget (OMB) approval to renew a previously approved information collection. Applicable federal regulations prescribe certification standards for aircraft, aircraft engines, propellers appliances and parts. The information collected is used to determine compliance and applicant eligibility. The respondents are aircraft parts designers, manufacturers, and aircraft owners.

DATES: Written comments should be submitted by November 26, 2018.

ADDRESSES: Send comments to the FAA at the following address: Barbara Hall, Federal Aviation Administration, ASP-110, 10101 Hillwood Parkway, Fort Worth, TX 76177.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Barbara Hall by email at: Barbara.L.Hall@faa.gov; phone: 940-594-5913.

SUPPLEMENTARY INFORMATION:

OMB Control Number: 2120-0018.

Title: Certification Procedures for Products and Parts.

Form Numbers: FAA Forms 8110-12, 8130-1, 8130-6, 8130-9, 8130-12.

Type of Review: Renewal with change.

Background: 14 CFR part 21 prescribes certification standards for aircraft, aircraft engines, propellers appliances and parts. The information collected is used to determine compliance and applicant eligibility. FAA Airworthiness inspectors, designated inspectors, engineers, and designated engineers review the required data submittals to determine that aviation products and articles and their manufacturing facilities comply with the applicable requirements, and that the products and articles have no unsafe features.

This request is to make changes to FAA Form 8130-6, APPLICATION FOR U.S. AIRWORTHINESS CERTIFICATE to include new entries for the SPECIAL AIRWORTHINESS CERTIFICATE Categories, Section II. CERTIFICATION REQUESTED, BLOCK 4. EXPERIMENTAL, UNMANNED AIRCRAFT. The new categories to be added to the form will be annotated by blocks 9D—SHOW COMPLIANCE WITH CFR and 9E—EXHIBITION.

The FAA continues to move toward the electronic collection of data for some of its information collections and electronic signatures. As such, the FAA is working to develop the ASKME Segment 2 Airworthiness Application (AWC) that would allow the electronic collection of the specific information requested in these forms. Testing for this effort is underway with scheduled field implementation targeted for early 2019.

Respondents: Approximately 16,773 aircraft parts designers, manufacturers, and aircraft owners.

Frequency: On occasion.

Estimated Average Burden per Response: .55 hours.

Estimated Total Annual Burden: 12,916.6 hours.

Issued in Washington, DC, on September 18, 2018.
Barbara L. Hall,
FAA Information Collection Clearance Officer, Performance, Policy, and Records Management Branch, ASP-110.

[FR Doc. 2018-20871 Filed 9-25-18; 8:45 am]

BILLING CODE 4910-13-P